SOCIAL SECURITY ADMINISTRATION

Privacy Act of 1974, as Amended; New System of Records and New Routine Use Disclosures

AGENCY: Social Security Administration (SSA).

ACTION: New system of records and proposed new routine uses.

SUMMARY: In accordance with the Privacy Act (5 U.S.C. 552a(e)(4)) and (e)(11)), we are issuing public notice of our intent to establish a new system of records entitled, the Social Security Administration's Talking and Listening to Customers (hereinafter referred to as TLC). The proposed TLC system will maintain information collected for use in connection with SSA's implementation of a process for capturing and addressing customer-initiated complaints, compliments, and suggestions.

The proposed new system of records will provide for routine use disclosures in connection with our administration of the Social Security Act, or as mandated by Federal law. We invite public comment on this proposal.

DATES: We filed a report of the proposed new system of records with the Chairman of the Senate Governmental Affairs Committee, the Chairman of the House Reform and Oversight Committee, the Director, Office of Information and Regulatory Affairs, and the Office of Management and Budget on July 24, 2000. The proposed system of records, including the proposed routine uses, will become effective on September 5, 2000, unless we receive comments that would warrant the system of records not being implemented.

ADDRESSES: Interested individuals may comment on this publication by writing to the SSA Privacy Officer, Social Security Administration, 3-A-6 Operations Building, 6401 Security Boulevard, Baltimore, Maryland 21235. All comments received will be available for public inspection at the above address.

FOR FURTHER INFORMATION CONTACT: Ms. Hazel Brodie, Social Insurance Policy Specialist, Social Security Administration, Room 3-C-3 Operations Building, 6401 Security Boulevard, Baltimore, Maryland 21235, telephone (410) 965-1744.

SUPPLEMENTARY INFORMATION:

I. Background and Purpose of the Proposed TLC System

On September 11, 1993, President Clinton issued Executive Order (EO) 12862, “Setting Customer Service Standards.” In part, EO 12862 states, “Putting people first means ensuring that the Federal government provides the highest quality service possible to the American people.” Toward this end, the EO further specifically requires agencies to “make * * * complaint systems easily accessible” and “provide means to address customer complaints.”

Talking and Listening to Customers (TLC) is the Social Security Administration's (SSA) answer to this Executive mandate. TLC is an agency-wide automated process that will enable SSA to capture, analyze, and address spontaneous customer complaints, compliments, and suggestions. Through TLC, we will document customers' input on a wide range of issues, including programs, policy, law, and service. This information will enhance SSA's ability to track and address individual customer concerns, as well as provide data to support the Agency's business planning, policy development, communication strategies, and operational and service improvements.

SSA will test the new TLC process and automated system in all regions, including the Office of Hearings and Appeals (OHA) sites. Following the test period, we will evaluate the pilot based on customer and employee reaction as well as the automated system performance.

II. Collection, Maintenance, and Use of Data in the Proposed TLC System

We will obtain the information from our customers that will be maintained in the TLC automated system of records. The information will pertain to complaints, compliments, and suggestions our customers provide about Social Security programs, policies, laws, and service.

The information maintained in the TLC system will include (if given): Identifying information such as the customer's name, Social Security number (SSN), Employer Identification Number (EIN) and/or Claim Number, telephone number, address, and information relative to the content and disposition of their complaint, compliment, or suggestion.

If a third party provides the information, the TLC system will include data provided by the third party about the customer, such as the customer's name, SSN, EIN, and/or Claim Number, telephone number, addresses, and information relative to their complaint, compliment, or suggestion.

We will maintain and retrieve this information by our customer's SSN, EIN, and/or Claim Number, if given. Thus, the TLC system will constitute a system of records under the Privacy Act.

III. Proposed Routine Use Disclosures of Data That Will Be Maintained in the Proposed TLC System

We are proposing to establish routine uses of information that will be maintained in the proposed system as discussed below.

A. Disclosure to the Office of the President for the purpose of responding to an individual pursuant to an inquiry received from that individual or from a third party on his or her behalf.

We will disclose information under this routine use only in situations in which an individual may contact the Office of the President, seeking that office's assistance in a SSA matter on his or her behalf. Information would be disclosed when the Office of the President makes an inquiry and presents evidence that the office is acting on behalf of the individual whose record is requested.

B. Disclosure to a Congressional Office in response to an inquiry from that office made at the request of the subject of a record.

We will disclose information under this routine use only in situations in which an individual may ask his or her congressional representative to intercede in a SSA matter on his or her behalf. Information would be disclosed when the congressional representative makes an inquiry and presents evidence that he or she is acting on behalf of the individual whose record is requested.

C. Disclosure to student volunteers and other workers, who do not have the status of Federal employees, when they are performing work for SSA as authorized by law, and they need access to personally identifiable in SSA records in order to perform their assigned Agency functions.

Under certain Federal statutes, SSA is authorized to use the services of volunteers and participants in certain educational, training, employment and community service programs. Examples of such statutes and programs are: 5 U.S.C. 3111 regarding student volunteers, and 42 U.S.C. 2753 regarding the College Work-Study Program. We contemplate disclosing information under this routine use only when SSA uses the services of these individuals and they need access to information in this system to perform their assigned duties.

D. Disclosure to contractors and other Federal agencies, as necessary, for the purpose of assisting SSA in the efficient administration of a function relating to this system of records.

We will disclose information under this routine use only in situations in which SSA may enter into a contractual agreement or similar agreement with a third party to assist in accomplishing an Agency function relating to this system of records.

E. Nontax return information which is not restricted from disclosure by Federal law may be disclosed to the General Services Administration (GSA) and the National Archives and Records Administration (NARA) under 44 U.S.C. 2904 and 2906, as amended by NARA Act of 1984, for the use of those agencies in conducting records management studies.

The Administrator of GSA and the Archivist of NARA are charged by 44 U.S.C. 2904 with promulgating standards, procedures, and guidelines regarding records management and conducting records management studies. Section 2906 of that law, also amended by the NARA Act of 1984, provides that GSA and NARA are to have access to Federal agencies' records and that agencies are to cooperate with GSA and NARA. In carrying out these responsibilities, it may be necessary for GSA and NARA to have access to this proposed system of records. In such instances, the routine use will facilitate disclosure.

IV. Compatibility of Proposed Routine Uses

The Privacy Act (5 U.S.C. 552a(a)(7) and 552a(b)(3) and our disclosure regulations (20 CFR part 401) permit us to disclose information under a published routine use for a purpose which is compatible with the purpose for which we collected the information. Section 401.150(c) of the regulations permits us to disclose information under a routine use where necessary to assist in carrying out SSA programs. Section 401.120 of the regulations provides that we will disclose information when a law specifically requires the disclosure. The proposed routine uses lettered A-D will ensure the efficient administration of Social Security programs; the disclosures that would be made under routine use “E” are required by Federal law. Thus, all of the routine uses are appropriate and meet the relevant statutory and regulatory criteria.

V. Records Storage Medium and Safeguards for the Proposed TLC System

We will maintain information on the proposed TLC system in electronic form, in computer data systems, and in paper form. Only authorized SSA personnel who have a need for the information in the performance of their official duties will be permitted access.

Security measures include the use of access codes to enter the computer systems that will maintain the data, and storage of the computerized records in secured areas that are accessible only to employees who require the information in performing their official duties. Any manually maintained records will be kept in locked cabinets or in otherwise secure areas. Also, all entrances and exits to SSA buildings are patrolled by security guards. Contractor personnel having access to data in the proposed systems of records will be required to adhere to SSA rules concerning safeguards, access, and use of the data. SSA personnel having access to the data on these systems will be informed of the criminal penalties of the Privacy Act for unauthorized access to or disclosure of information maintained in these systems. See 5 U.S.C. § 552a(i)(1).

VI. Effect of the Proposed TLC System of the Rights of Individuals

The proposed TLC system will maintain information that we will use to document and categorize customer input along various program, policy, and service lines, and to identify those areas of greatest interest and concern to our customers. This will allow us to target those concerns for additional research, thereby improving the quality of the service we provide. We will not use the information in any manner that will be adverse to the individuals to whom it pertains. Thus, we do not anticipate that the TLC system will have any unwarranted adverse effect on individuals.

Dated: July 24, 2000.
Kenneth S. Apfel,
Commissioner of Social Security.

60-0276

SYSTEM NAME:

Social Security Administration's (SSA) Talking and Listening to Customers (TLC).

SECURITY CLASSIFICATION:

None.

SYSTEM LOCATION:

Social Security Administration, Office of Customer Service Integration, Room 938 Altmeyer Building, 6401 Security Boulevard, Baltimore, Maryland 21235.

CATEGORIES OF INDIVIDUALS COVERED BY THE SYSTEM:

Any SSA customer (individual or entity who is directly served by a department or agency), which includes the general public and Social Security claimants/beneficiaries who provide feedback via complaints, compliments, or suggestions to SSA.

CATEGORIES OF RECORDS IN THE SYSTEM:

The information maintained in this system of records includes identifying information such as the customer's name, Social Security number (SSN), Employer Identification Number (EIN) and/or Claim Number, telephone number, and address, if given by the individual. Also, information concerning the content and disposition of customers' compliments, complaints, or suggestions will be maintained in the system.

AUTHORITY FOR MAINTENANCE OF THE SYSTEM:

Executive Order 12862, “Setting Customer Service Standards.”

PURPOSE(S):

The TLC system will capture information our customers provide concerning complaints, compliments and/or suggestions about SSA programs, policy, laws, and service. We will use data from the TLC system to support SSA's business planning, policy development, communication strategies, and operational and service enhancements.

ROUTINE USES OF RECORDS MAINTAINED IN THE SYSTEM, INCLUDING CATEGORIES OF USERS AND THE PURPOSES OF SUCH USES:

Disclosure may be made for routine uses as indicated below:

1. Disclosure to the Office of the President for the purpose of responding to an individual pursuant to an inquiry from that office made at the request of the subject of a record.

2. Disclosure to a Congressional Office in response to an inquiry from that office made at the request of the subject of a record.

3. Disclosure to student volunteers and other workers, who do not have the status of Federal employees, when they are performing work for SSA as authorized by law, and they need access to personally identifiable information in SSA records in order to perform their assigned Agency functions.

4. Disclosure to contractors and other Federal agencies, as necessary, for the purpose of assisting SSA in the efficient administration of a function relating to this system of records.

5. Nontax return information which is not restricted from disclosure by Federal law may be disclosed to the General Services Administration (GSA) and the National Archives and Records Administration (NARA) under 44 U.S.C. 2904 and 2906, as amended by NARA Act of 1984, for the use of those agencies in conducting records management studies.

POLICIES AND PRACTICES FOR STORING, RETRIEVING, SAFEGUARDING, RETAINING AND DISPOSING OF RECORDS IN THE SYSTEM:

STORAGE:

Data are stored in electronic and paper form.

RETRIEVABILITY:

Records in this system are indexed and retrieved by Name, SSN, EIN and/or Claim Number.

SAFEGUARDS:

Security measures include the use of access codes to enter the database and the storage of the electronic records in secured areas which are accessible only to employees who require the information in performing their official duties. The paper records that result from the electronic site are kept in locked cabinets or in otherwise secure areas. SSA contractor personnel having access to data in the system of records are required to adhere to SSA rules concerning safeguards, access, and use of the data. They also are informed of the criminal penalties of the Privacy Act for unauthorized access to or disclosure of information maintained in this system of records.

RETENTION AND DISPOSAL:

The TLC tracking and management information maintained in this system are retained indefinitely or until it is determined that they are no longer needed. Means of disposal is appropriate to storage medium (e.g., deletion of individual records from the electronic site when appropriate, or shredding of paper records, etc.).

SYSTEM MANAGER(S) AND ADDRESS:

Social Security Administration, Office of Systems, Office of Information Management, Room 3420 West High Rise Building, 6401 Security Boulevard, Baltimore, Maryland 21235.

NOTIFICATION PROCEDURE:

An individual can determine if this system contains a record about him/her by writing to the Systems Manager at the above address and providing his/her SSN, EIN and/or Claim Number, or other information that may be in the system of records that will identify him/her. An individual requesting notification of records in person should provide the same information, as well as provide an identity document, preferably with a photograph, such as a driver's license or some other means of identification, such as a voter registration card, credit card, etc. If an individual does not have any identification document sufficient to establish his/her identity, the individual must certify in writing that he/she is the person he/she claims to be and that he/she understands that the knowing and willful request for, or acquisition of, a record pertaining to another individual under false pretenses is a criminal offense.

If notification is requested by telephone, an individual must verify his/her identity by providing identifying information that is contained in the record to which notification is being requested. If we determine that the identifying information provided by telephone is insufficient, the individual will be required to submit a request in writing or in person. If an individual is requesting information on behalf of another individual and has the consent of subject individual, he/she must be able to provide his/her name, SSN, address, date of birth, and place of birth, along with one other piece of information such as mother's maiden name.

If a request for notification is submitted by mail, an individual must include a notarized statement to SSA to verify his/her identity or must certify in the request that he/she is the person he/she claims to be and that he/she understands that the knowing and willful request for, or acquisition of, a record pertaining to another individual under false pretenses is a criminal offense.

These procedures are in accordance with SSA Regulations 20 CFR 401.45 and 401.50.

RECORD ACCESS PROCEDURES:

Same as notification procedures. Requesters should also reasonably specify the record contents being sought. These procedures are in accordance with SSA Regulations 20 CFR 401.40 to 401.50.

CONTESTING RECORD PROCEDURES:

Same as notification procedures. Requesters should also reasonably identify the record, specify the information they are contesting, state the corrective action sought, and the reasons for the correction with supporting justification showing how the record is untimely, incomplete, inaccurate, or irrelevant. These procedures are in accordance with SSA Regulations 20 CFR 401.65.

RECORD SOURCE CATEGORIES:

Data for the system are obtained primarily from the individuals to whom the record pertains.

SYSTEMS EXEMPTED FROM CERTAIN PROVISIONS OF THE PRIVACY ACT:

None.

[FR Doc. 00-19619 Filed 8-4-00; 8:45 am]

BILLING CODE 4190-29-P